FEDERAL TRADE COMMISSION

Granting of Request for Early Termination of the Waiting Period Under the Premerger Notification Rules

Section 7A of the Clayton Act, 15 U.S.C. 18a, as added by Title H of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—09/22/2008
20081727 | Audax Private Equity Fund I11, LP | Andrews Holding, LLC | Andrews Holding, LLC.
20081730 | Dufry AG | Newco | Hudson Group Holdings, Inc.
20081731 | Newco | Dufry AG | Dufry AG.
20081741 | Sterling Investment Partners II, L.P | Charles M. Simon | FCX USA, Inc.
20081744 | The Gap, Inc | Blue Highways Holdings LLC | Athleta, Inc.
20081745 | Audax Private Equity Fund III, L.P | Mobilex Acquisition Group, LLC | MX USA, Inc.
20081751 | Clayton, Dubilier & Rice Fund VII, L.P | Bodycote Plc | Bodycote Materials Testing Inc.
20081752 | Sumner M. Redstone | NextMedia Investors LLC | NextMedia Outdoor, Inc.
20081753 | Infosys Technologies Limited | Axon Group plc | Axon Group plc.
20081758 | American Industrial Partners Capital Fund IV, LP | Morgenthaler Partners VIII, L.P | MAI Holdings, Inc.
20081760 | Anixter International Inc. | James M. Lindenberg | World Class Wire and Cable, Inc.
20081764 | MOD Holding Company, L.L.P | Miller Distributing of Fort Worth, Inc | Miller Distributing of Fort Worth, Inc.
20081766 | J.H. Whitney VI, L.P | George and Julianne Arguros | I Products Corporation.
20081768 | Vladimir Lisin | Theodore P. Angelopoulos | Beta Steel Corp.
20081772 | Actuant Corporation | Cortec Group Fund III, L.P | The Cortland Companies, Inc.
20081774 | DCP Midstream Partners, LP | Ganesh Energy, LLC | Michigan Pipeline & Processing, LLC.
TRANSACTIONS GRANTED EARLY TERMINATION—09/23/2008
20081723 | The Odom Corporation | Francine Loeb | Alaska Distributors Co.
20081726 | 3M Company | TSG4 L.P | Meguiar's, Inc.
|  |  | Meguiar's International, Inc.
20081769 | Prudential Financial Inc | Nationwide Mutual Insurance Company | Mullin TBG Insurance Agency Services, LLC.
|  |  | TBG Insurance Services Corp.
20081770 | Prudential Financial Inc | MC Insurance Agency Services Holdings, LLC | MC Insurance Agency Services, LLC.
|  |  | Mullin TBG Insurance Agency Services, LLC.
20081775 | OCM Principal Opportunities Fund IV, L.P | Nevada Chemicals, Inc. | Nevada Chemicals, Inc.
TRANSACTIONS GRANTED EARLY TERMINATION—09/24/2008
20081771 | Magnesita Refratararios S.A | Rhone Partners III LP | Rearden G Holdings Eins GmbH.
20081773 | TransDigm Group Incorporated | General Electric Company | Unison Industries, LLC.
TRANSACTIONS GRANTED EARLY TERMINATION—09/26/2008
20081701 | Warburg Pincus Private Equity X, L.P | Green Dot Corporation | Green Dot Corporation.
20081716 | NEC Corporation | NetCracker Technology Corporation | NetCracker Technology Corporation.
20081725 | Tower Group, Inc | Partners Limited | HIG, Inc.
20081755 | Precision Drilling Trust | Grey Wolf, Inc | Grey Wolf, Inc.
20081767 | Harbinger Capital Partners Offshore Fund I, Ltd | Dr. Rajendra Singh | TVCC One Six Holdings, LLC.
20081777 | Superior Well Services, Inc | Wexford Partners 9, L.P | Diamondback—Completions LLC.
|  |  | Diamondback—Disposal LLC.
|  |  | Diamondback—Disposal Texas LLC.
|  |  | Diamondback Holdings, LLC.
|  |  | Diamondback—Pioneer LLC.
|  |  | Diamondback—PST LLC.
|  |  | Diamondback Pumping GP LLC.
|  |  | Diamondback Pumping Service LLC.
|  |  | Diamondback—TD West LLC.
|  |  | Diamondback—Total Oklahoma LLC.
|  |  | Diamondback—Total Pumping GP LLC.
|  |  | Diamondback—Total Services LLC.
|  |  | Diamondback—Total Texas LLC.
|  |  | Packers & Service Tools, Inc.
|  |  | Sooner Trucking & Oilfield Services, Inc.
|  |  | TD West LLC.
|  |  | Wexford Partners 9, L.P.
20081778 | Tower Group, Inc | CastlePoint Holdings, Ltd | CastlePoint Holdings, Ltd.
20081779 | Onex Partners Il LP | Ronald M. Simon | RSI Home Products, Inc.
20081784 | Unitrin, Inc | Direct Response Corporation | Direct Response Corporation.
20081785 | Voting Share Irrevocable Trust Dated May 31, 1989 | David W. Tice | David W. Tice & Asssociates, LLC.
TRANSACTIONS GRANTED EARLY TERMINATION—09/29/2008
20081724 | Halliburton Company | Carbo Ceramics Inc | Pinnacle Technologies.
TRANSACTIONS GRANTED EARLY TERMINATION—09/30/2008
20081801 | Best Buy Co., Inc | Napster, Inc | Napster, Inc.

For Further Information Contact: Sandra M. Peay, Contact Representative or Renee Hallman, Contact Representative. Federal Trade Commission, Premerger Notification Office, Bureau of Competition, Room H-303, Washington, DC 20580, (202) 326-3100.

By Direction of the Commission.
Donald S. Clark,
Secretary.

[FR Doc. E8-24222 Filed 10-15-08; 8:45 am]

BILLING CODE 6750-01-M